DEPARTMENT OF DEFENSE

Office of the Secretary

Defense Health Board (DHB) Meeting

AGENCY: Department of Defense (DoD).

ACTION: Notice of meeting.

SUMMARY: Pursuant to the Federal Advisory Committee Act of 1972 (5 U.S.C., Appendix as amended), the Sunshine in the Government Act of 1976 (5 U.S.C. 552b, as amended), and 41 CFR 102-3.150, and in accordance with section 10(a)(2) of Public Law, the Department of Defense Task Force on the Prevention of Suicide by Members of the Armed Forces, a subcommittee of the Defense Health Board (DHB), will meet on March 11, 2010. Subject to the availability of space, the meeting is open to the public.

DATES: The meeting will be held on March 11, 2010, from 9 a.m. to 4 p.m.

ADDRESSES: The meeting will be held at the Omni La Mansion Del Rio, 112 College Street, San Antonio, Texas 78205.

Written statements may be mailed to the address under FOR FURTHER INFORMATION CONTACT, e-mailed to dhb@ha.osd.mil or faxed to (703) 681-3317.

FOR FURTHER INFORMATION CONTACT: Col JoAnne McPherson, Executive Secretary, Department of Defense Task Force on the Prevention of Suicide by Members of the Armed Forces, One Skyline Place, 5205 Leesburg Pike, Suite 810, Falls Church, Virginia 22041-3206, (703) 681-3279, ext 162, Fax: (703) 681-3317, JoAnne.Mcpherson@tma.osd.mil.

SUPPLEMENTARY INFORMATION: Due to internal DoD difficulties, beyond the control of the Defense Health Board or its Designated Federal Officer, the Government was unable to process the Federal Register notice for the March 11, 2010, meeting of the Defense Health Board's subcommittee, Department of Defense Task Force on the Prevention of Suicide by Members as required by 41 CFR 102-3.150(a). Accordingly, the Committee Management Officer for the Department of Defense, pursuant to 41 CFR 102-3.150(b), waives the 15-calendar day notification requirement.

Purpose of the Meeting

The purpose of the meeting is to gather information pertaining to suicide and suicide prevention programs for members of the Armed Services.

Additional information, agenda updates, and meeting registration are available online at the Defense Health Board Web site, http://www.ha.osd.mil/dhb.

Agenda

On March 11, 2010, the Department of Defense Task Force on the Prevention of Suicide by Members of the Armed Forces will receive briefings from Service Component representatives, the VA, and Service medical training representatives concerning efforts related to suicide and suicide prevention programs.

Pursuant to 5 U.S.C. 552b, as amended, and 41 CFR 102-3.140 through 102-3.165 and subject availability of space, the Department of Defense Task Force on the Prevention of Suicide by Members of the Armed Forces meeting March 11, 2010, is open to the public. The public is encouraged to register for the meeting.

Written Statements

Any member of the public wishing to provide input to the Department of Defense Task Force on the Prevention of Suicide by Members of the Armed Forces should submit a written statement in accordance with 41 CFR 102-3.140(c) and section 10(a)(3) of the Federal Advisory Committee Act, and the procedures described in this notice. Written statement should address the following detail: the issue, discussion, and a recommended course of action. Supporting documentation may also be included as needed to establish the appropriate historical context and to provide any necessary background information.

Individuals desiring to submit a written statement may do so through the Board's Designated Federal Officer (DFO) (see FOR FURTHER INFORMATION CONTACT) at any point. However, if the written statement is not received prior to the meeting, which is subject to this notice, then it may not be provided to or considered by the Department of Defense Task Force on the Prevention of Suicide by Members of the Armed Forces until the next open meeting.

The DFO will review all timely submissions with the Department of Defense Task Force on the Prevention of Suicide by Members of the Armed Forces Co-Chairpersons, and ensure they are provided to members of the Department of Defense Task Force on the Prevention of Suicide by Members of the Armed Forces before the meeting that is subject to this notice. After reviewing the written comments, the Co-Chairpersons and the Designated Federal Officer may choose to invite the submitter of the comments to orally present their issue during an open portion of the meeting or at a future meeting.

The DFO, in consultation with the Department of Defense Task Force on the Prevention of Suicide by Members of the Armed Forces Co-Chairpersons, may, if desired, allot a specific amount of time for members of the public to present their issues for review and discussion by the Department of Defense Task Force on the Prevention of Suicide by Members of the Armed Forces.

Dated: February 24, 2010.
Mitchell S. Bryman,
Alternate OSD Federal Register Liaison Officer, Department of Defense.

[FR Doc. 2010-4300 Filed 3-1-10; 8:45 am]

BILLING CODE 5001-06-P